DEPARTMENT OF COMMERCE

International Trade Administration

[A-570-983]

Drawn Stainless Steel Sinks From the People's Republic of China: Postponement of Preliminary Determination of Antidumping Duty Investigation

AGENCY: Import Administration, International Trade Administration, Department of Commerce.

DATES: Effective Date: July 16, 2012.

FOR FURTHER INFORMATION CONTACT: Frances Veith or Eve Wang, AD/CVD Operations, Office 8, Import Administration, International Trade Administration, U.S. Department of Commerce, 14th Street and Constitution Avenue NW., Washington, DC 20230; telephone: (202) 482-4295 or (202) 482-6231, respectively.

SUPPLEMENTARY INFORMATION:

Postponement of Preliminary Determination

On March 27, 2012, the Department of Commerce (“the Department”) initiated an antidumping duty investigation on drawn stainless steel sinks from the People's Republic of China.¹ The notice of initiation stated that, unless postponed, the Department would issue its preliminary determination no later than 140 days after the date of issuance of the initiation, in accordance with section 733(b)(1)(A) of the Tariff Act of 1930, as amended (“the Act”). The preliminary determination is currently due no later than August 8, 2012.

¹ See Drawn Stainless Steel Sinks From the People's Republic of China: Initiation of Antidumping Duty Investigation, 77 FR 18207 (March 27, 2012).

On June 29, 2012, Petitioner, Elkay Manufacturing Company, made a timely request, pursuant to 19 CFR 351.205(b)(2) and (e), for a 50-day postponement of the preliminary determination, in order to allow additional time for the Department to review respondents' sections C and D questionnaire submissions.² Because there are no compelling reasons to deny the request, in accordance with section 733(c)(1)(A) of the Act, the Department is postponing the deadline for the preliminary determination by 50 days.

² See Petitioner's letter regarding, “Drawn Stainless Steel Sinks From The People's Republic of China: Request For Extension Of The Preliminary Determination And The Deadline To Submit Surrogate Country Comments And Surrogate Value Data,” dated June 29, 2012.

An extension of 50 days from the current deadline of August 8, 2012, would result in a new deadline of September 27, 2012. The deadline for the final determination will continue to be 75 days after the date of the preliminary determination, unless extended.

This notice is issued and published pursuant to section 733(c)(2) of the Act and 19 CFR 351.205(f)(1).

Dated: July 10, 2012.
Ronald K. Lorentzen,
Acting Assistant Secretary for Import Administration.

[FR Doc. 2012-17286 Filed 7-13-12; 8:45 am]

BILLING CODE 3510-DS-P